ENVIRONMENTAL PROTECTION AGENCY

[OECA-2005-0046; FRL-7991-5]

Agency Information Collection Activities; Submission for OMB Review and Approval; Comment Request; NESHAP for Primary Lead Smelters (Renewal); OMB Number 2060-0414; EPA ICR Number 1856.05

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on October 31, 2005. Under OMB regulations, the Agency may continue to conduct or sponsor the collection of information while this submission is pending at OMB. This ICR describes the nature of the information collection and its estimated burden and cost.

DATES: Additional comments may be submitted on or before December 1, 2005.

ADDRESSES: Submit your comments, referencing docket ID number OECA-2005-0046, to (1) EPA online using EDOCKET (our preferred method), by e-mail to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments.

EPA has established a public docket for this ICR under Docket ID Number OECA-2005 0046, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NESHAP for Primary Lead Smelters (Renewal).

Abstract: The National Emission Standards for Hazardous Air Pollutants (NESHAP) for Primary Lead Smelters, published at 40 CFR part 63, subpart TTT, were proposed on April 17, 1998 (63 FR 19200), and promulgated on June 4, 1999 (64 FR 30204). On February 12, 1999, the Agency publicized a supplemental rulemaking for ferroalloys, mineral wool, primary copper, primary lead and wool fiberglass. The supplemental for this rule enhances the requirements of the bag leak detection systems in 40 CFR 63.1625 and 40 CFR 63.1655 of the proposed rule to include an enforceable operating limit. This rule applies to emissions sources (i.e., sinter machine, blast furnace, dross furnace, process fugitive, and fugitive dust sources) from primary lead smelters.

The monitoring, recordkeeping, and reporting requirements outlined in the rule are similar to those required for other NESHAP regulations. Plants must demonstrate compliance with the emission standards by monitoring their control devices and performing annual emissions testing. Consistent with the NESHAP General Provisions (40 CFR part 63, subpart A), all sources subject to this standard are required to submit one-time notifications of applicability; a one-time report on performance test results for the primary emission control device; an initial report specifying the intended methods of compliance; standard operating procedure manuals for baghouses and fugitive dust control; and a semiannual report that includes a summary of the monitoring results, any baghouse leak detection system alarms and corrective actions. Sources must also maintain records of production for unrefined lead, copper matte, and copper speiss; the date and times of bag leak detection system alarms and the corrective action taken; baghouse inspection and maintenance; any records required as part of the source standard operating procedures manuals; and the compliance methods chosen. Records shall be maintained for a period of five years. Records of the most recent two years of operation must be maintained onsite.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 3,048 (rounded) hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Emissions sources from primary lead smelters (i.e., sinter machine, blast furnace, dross furnace, process fugitive, and fugitive dust sources).

Estimated Number of Respondents: 2.

Frequency of Response: Initial, annual, semiannual and on occasion.

Estimated Total Annual Hour Burden: 12,190 hours.

Estimated Total Annual Costs: $1,003,083, which includes $0 annualized capital/startup costs, $19,000 annual O&M costs, and $984,083 annual labor costs.

Changes in the Estimates: There is a decrease of 83 hours in the total estimated burden currently identified in the OMB Inventory of Approved ICR Burdens. This decrease in labor burden to industry from the most recently approved ICR is due to the assumptions that both existing respondents have complied with the initial requirements of the rule and that there will be no new growth in this industry sector.

The total annualized capital and operations and maintenance costs decreased from $36,000 to $19,000 due to a lack of capital/startup costs associated with new sources purchasing continuous emission monitoring equipment. The operation and maintenance costs for the monitoring equipment at existing sources are anticipated to continue over the next three years.

Although there was an increase in the labor rates for both industry and the Federal government, it did not offset the reduction in labor burden associated due to the assumptions stated above.

Dated: October 24, 2005.
Oscar Morales,
Director, Collection Strategies Division.

[FR Doc. 05-21759 Filed 10-31-05; 8:45 am]

BILLING CODE 6560-50-P